DEPARTMENT OF ENERGY

Federal Energy Regulatory Commission

Notice of Declaration of Intention and Soliciting Comments, Protests, and/or Motions To Intervene

August 26, 2002.

Take notice that the following application has been filed with the Commission and is available for public inspection:

a. Application Type: Declaration of Intention.

b. Project No: DI02-6-000.

c. Date Filed: July 23, 2002.

d. Applicant: Richard Gildersleeve.

e. Name of Project: Gildersleeve Homestead Project.

f. Location: The project is located on Gildersleeve Creek, on Wrangell Island near Wrangell, Alaska, at T. 64 S., R. 84 E., Section 20, Cooper River Meridian. This project will not occupy Federal or Tribal lands.

g. Filed Pursuant to: Section 23(b)(1) of the Federal Power Act, 16 U.S.C. 817 (b).

h. Applicant Contact: Richard Gildersleeve, P.O. Box 735, Wrangell, AK 99925, telephone (907) 723-5103.

i. FERC Contact: Any questions on this notice should be addressed to Henry Ecton (202) 502-8768, or e-mail address: henry.ecton@ferc.gov.

j. Deadline for filing comments and or motions: September 27, 2002.

All documents (original and eight copies) should be filed with: Magalie R. Salas, Secretary, Federal Energy Regulatory Commission, 888 First Street, NE., Washington, DC 20426. Comments, protests, and/or interventions may be filed electronically via the Internet in lieu of paper; see 18 CFR 385.2001(a)(1)(iii) and the instructions on the Commission's web site under the “e-Filing” link. The Commission strongly encourages electronic filings. Please include the docket number (DI02-6-000) on any comments or motions filed.

The Commission's Rules of Practice and Procedure require all interveners filing a document with the Commission to serve a copy of that document on each person in the official service list for the project. Further, if an intervener files comments or documents with the Commission relating to the merits of an issue that may affect the responsibilities of a particular resource agency, they must also serve a copy of the document on that resource agency.

k. Description of Project: The proposed Gildersleeve Homestead Project, a run-of-river development, will consist of: (1) A 600-foot-long, 6-inch-diameter pvc pipe; (2) a 580-watt generator, located in a 6-foot by 6-foot powerhouse; (3) a 300-foot-long underground transmission line, leading from the generator to a 24-volt DC battery bank; and (4) appurtenant facilities. It will not be connected to an interstate grid. All power produced will be used on site.

When a Declaration of Intention is filed with the Federal Energy Regulatory Commission, the Federal Power Act (FPA), 16 U.S.C. 817(1), requires the Commission to investigate and determine whether or not the project is required to be licensed. Pursuant to section 23(b)(1) of the FPA, a non-federal hydroelectric project must (unless it has a still-valid pre-1920 federal permit) be licensed if it is located on a navigable water of the United States; occupies lands of the United States; utilizes surplus water or water power from a government dam; or is located on a body of water over which Congress has Commerce Clause jurisdiction, project construction occurred on or after August 26, 1935, and the project affects the interests of interstate or foreign commerce. The purpose of this notice is to gather information to determine whether the existing project meets any or all of the above criteria, as required by the FPA.

l. Locations of the Application: A copy of the application is available for inspection and reproduction at the Commission's Public Reference Room, or may be viewed on the Commission's website at http://www.ferc.gov using the “FERRIS” link. Enter the docket number excluding the last three digits in the docket number field to access the document. For assistance, call (202) 502-8222 or for TTY, (202) 208-1659.

m. Individuals desiring to be included on the Commission's mailing list should so indicate by writing to the Secretary of the Commission.

n. Comments, Protests, and/or Motions to Intervene—Anyone may submit comments, a protest, and/or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, and/or motions to intervene must be received on or before the specified comment date for the particular application.

o. Filing and Service of Responsive Documents:—Any filings must bear in all capital letters the title “COMMENTS”, “PROTEST”, AND/OR “MOTION TO INTERVENE”, as applicable, and the Docket Number of the particular application to which the filing refers. A copy of any motion to intervene must also be served upon each representative of the Applicant specified in the particular application.

p. Agency Comments—Federal, state, and local agencies are invited to file comments on the described application. If an agency does not file comments within the time specified for filing comments, it will be presumed to have no comments. One copy of an agency's comments must also be sent to the Applicant's representatives.

Linwood A. Watson, Jr.,
Deputy Secretary.

[FR Doc. 02-22194 Filed 8-29-02; 8:45 am]

BILLING CODE 6717-01-P